FEDERAL MINE SAFETY AND HEALTH REVIEW COMMISSION

Sunshine Act Meeting Notice

October 12, 2011.

TIME AND DATE: 10 a.m., Wednesday, October 19, 2011.

PLACE: The Richard V. Backley Hearing Room, 9th Floor, 601 New Jersey Avenue, NW., Washington, DC.

STATUS: Open.

MATTERS TO BE CONSIDERED: The Commission will consider and act upon the following in open session: White Buck Coal Co., Docket No. WEVA 2011-1361; H & K Materials, Inc., Docket No. PENN 2011-308-M; and Graymont (PA) Inc., Docket No. PENN 2011-258-M. (Issues include whether motions to reopen each of the cases should be granted.)

Any person attending this meeting who requires special accessibility features and/or auxiliary aids, such as sign language interpreters, must inform the Commission in advance of those needs. Subject to 29 CFR 2706.150(a)(3) and 2706.160(d).

CONTACT PERSON FOR MORE INFORMATION: Jean Ellen, (202) 434-9950/(202) 708-9300 for TDD Relay/1-800-877-8339 for toll free.

Emogene Johnson,
Administrative Assistant.

[FR Doc. 2011-27590 Filed 10-20-11; 4:15 pm]

BILLING CODE 6735-01-P